INTERNATIONAL TRADE COMMISSION

[Investigation Nos. 731-TA-1071-1072 (Review)]

Magnesium From China and Russia

Determinations

On the basis of the record ¹ developed in the subject five-year reviews, the United States International Trade Commission (Commission) determines, pursuant to section 751(c) of the Tariff Act of 1930 (19 U.S.C. 1675(c)), that revocation of the antidumping duty order on magnesium from China would be likely to lead to continuation or recurrence of material injury to an industry in the United States within a reasonably foreseeable time. The Commission also determines,² pursuant to section 751(c) of the Tariff Act of 1930 (19 U.S.C. 1675(c)), that revocation of the antidumping duty order on magnesium from Russia would not be likely to lead to continuation or recurrence of material injury to an industry in the United States within a reasonably foreseeable time.³

¹ The record is defined in sec. 207.2(f) of the Commission's Rules of Practice and Procedure (19 CFR 207.2(f)).

² Commissioner Charlotte R. Lane dissenting.

³ Commissioner Dean A. Pinkert did not participate in these reviews.

Background

The Commission instituted these reviews on March 1, 2010 (75 FR 9252) and determined on June 4, 2010 that it would conduct full reviews (75 FR 35086, June 21, 2010). Notice of the scheduling of the Commission's reviews and of a public hearing to be held in connection therewith was given by posting copies of the notice in the Office of the Secretary, U.S. International Trade Commission, Washington, DC, and by publishing the notice in the Federal Register on August 10, 2010 (75 FR 48360). The hearing was held in Washington, DC, on December 7, 2010, and all persons who requested the opportunity were permitted to appear in person or by counsel.

The Commission transmitted its determinations in these reviews to the Secretary of Commerce on February 24, 2011. The views of the Commission are contained in USITC Publication 4214 (February 2011), entitled Magnesium from China and Russia: Investigation Nos.731-TA-1071-1072 (Review).

By order of the Commission.
Issued: February 24, 2011.
William R. Bishop,
Hearings and Meetings Coordinator.

[FR Doc. 2011-4729 Filed 3-2-11; 8:45 am]

BILLING CODE P